DEPARTMENT OF TRANSPORTATION

Federal Highway Administration

Notice of Final Federal Agency Actions on Proposed Highway Projects in Texas

AGENCY: Texas Department of Transportation (TxDOT), Federal Highway Administration (FHWA), Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried-out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is January 23, 2023. If the Federal law that authorizes judicial review of a claim provides a time period of less than 150 days for filing such a claim, then that shorter time period still applies.

FOR FURTHER INFORMATION CONTACT: Patrick Lee, Environmental Affairs Division, Texas Department of Transportation, 125 East 11th Street, Austin, Texas 78701; telephone: (512) 416-2358; email: Patrick.Lee@txdot.gov. TxDOT's normal business hours are 8:00 a.m.-5:00 p.m. (central time), Monday through Friday.

SUPPLEMENTARY INFORMATION: The environmental review, consultation, and other actions required by applicable Federal environmental laws for these projects are being, or have been, carried-out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting the local TxDOT office at the address or telephone number provided for each project below.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377] (Section 404, Section 401, Section 319); Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990 Protection of Wetlands; E.O. 11988 Floodplain Management; E.O. 12898 Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. IH 30 from 0.28 mile east of FM 2642 to 0.57 mile west of SH 34 in Hunt County, Texas. The purpose of the project is to improve mobility and safety by widening the existing facility from two lanes in each direction to three lanes in each direction, increasing inside and outside shoulder width from four to ten feet, separating main lanes with a four-foot-wide concrete barrier, and converting frontage roads from two-way to one-way. The proposed project would extend for approximately 13.65 miles. The actions by TxDOT and Federal agencies and the laws under which such actions were taken are described in the Categorical Exclusion Determination issued on March 22, 2022, and other documents in the TxDOT project file. The Categorical Exclusion Determination and other documents in the TxDOT project file are available by contacting the TxDOT Paris District Office at 1365 N Main St., Paris, TX 75460; telephone: (903) 737-9200.

2. Realignment of IH 35W northbound mainlanes from CR 604/CR 707 to US 67 within the city of Alvarado and in Johnson County, Texas. The closed left-hand exit from southbound IH 35W mainlanes to BUS 35W (North Parkway Drive) would be removed. A northbound frontage road between US 67 and BUS 35W would be added, and the existing frontage road from BUS 35W to CR 604/CR 707 would be converted from two-way to a one-way frontage road. This would provide a continuous, one-way frontage road from US 67 to the CR 604/CR 707 intersection. Existing BUS 35W would be realigned to a T-intersection at the proposed northbound frontage road. Bicycle and pedestrian accommodations would be part of the project. The proposed project is approximately 1.15 miles long, and proposed improvements would occur within existing ROW. The actions by TxDOT and Federal agencies and the laws under which such actions were taken are described in the Categorical Exclusion Determination issued on March 24, 2002, and other documents in the TxDOT project file. The Categorical Exclusion Determination and other documents in the TxDOT project file are available by contacting the TxDOT Fort Worth District Office at 2501 SW Loop 820, Fort Worth TX, 76133; telephone: (817) 370-6772.

3. IH 27 Expansion project from north of Western Street to the US 87/US 60 interchange in Randall County, Texas. This project begins just north of the Western Street bridge extending approximately 10 miles south to just south of the US 87/US 60 interchange north of Canyon and will increase roadway capacity. The project will include adding a third inside travel lane on IH 27 in both directions with a concrete traffic barrier between northbound and southbound lanes, frontage road improvements and ramp realignments, and bicycle and pedestrian accommodations. Improvements at major arterials will require additional right-of-way totaling 10.4 acres. IH 27 improvements will also include reconstruction of the Western Street, Hillside Road, and Bell Street interchanges and overpass conversions at the Sundown Lane, FM 2219 (Lair Road), and Rockwell Road interchanges to put the IH 27 roadway over the intersecting arterial. The actions by TxDOT and Federal agencies and the laws under which such actions were taken are described in the Categorical Exclusion Determination issued on April 13, 2022, and other documents in the TxDOT project file. The Categorical Exclusion Determination and other documents in the TxDOT project file are available by contacting the TxDOT Amarillo District Office at 5715 Canyon Drive Amarillo, TX 79110; telephone: (806) 570-6301.

4. Talley Road from Wiseman Boulevard to Tamaron Pass in Bexar County, Texas. The project includes expanding the existing roadway from two to four lanes with a continuous center turn lane and constructing sidewalks along the entire length of the project. The project is approximately 2.44 miles in length. The actions by TxDOT and Federal agencies and the laws under which such actions were taken are described in the Categorical Exclusion Determination issued on April 18, 2022, and other documents in the TxDOT project file. The Categorical Exclusion Determination and other documents in the TxDOT project file are available by contacting the TxDOT San Antonio District Office at 4615 NW Loop 410, San Antonio, TX 78229; telephone: (210) 615-5839.

5. I Road from Rancho Blanco Road to US 281 (Military Highway) in Hidalgo County, Texas. The purpose of the project is to improve safety and mobility by widening and reconstructing I Road to a 50-foot-wide roadway with two 11-foot-wide travel lanes, a 12-foot-wide continuous center turn lane, 8-foot-wide shoulders, and 10-foot-wide shared use path, including left-turn lanes at seven intersecting cross streets. The proposed project length is approximately 4.1 miles. The actions by TxDOT and Federal agencies and the laws under which such actions were taken are described in the Categorical Exclusion Determination issued on May 6, 2022, and other documents in the TxDOT project file. The Categorical Exclusion Determination and other documents in the TxDOT project file are available by contacting the TxDOT Pharr District Office 600 W Expressway 2, Pharr, TX 78577; telephone: (956) 702-6100.

6. SH 123 from Cordova Lane to IH 10 in Guadalupe County, Texas. The project will expand SH 123 from a two-lane road to a four-lane divided highway. It also includes shoulders, curbs, and sidewalks. The project is approximately 2.5 miles in length. The actions by TxDOT and Federal agencies and the laws under which such actions were taken are described in the Categorical Exclusion Determination issued on May 20, 2022, and other documents in the TxDOT project file. The Categorical Exclusion Determination and other documents in the TxDOT project file are available by contacting the TxDOT San Antonio District Office at 4615 NW Loop 410, San Antonio, TX 78229; telephone: (210) 615-5839.

7. John Hayes Street Extension from Pellicano Drive to Montwood Drive in El Paso County, Texas. The proposed project would include extension of the existing John Hayes Street to Pellicano Drive and widening the existing John Hayes Street to a six-lane divided facility within a 125-foot right-of-way for a total of 3 miles. The proposed project would also include pedestrian, bicycle, shared use path improvements, and drainage improvements. The general purpose of the project is to extend and improve the existing John Hayes Street. The actions by TxDOT and Federal agencies and the laws under which such actions were taken are described in the Categorical Exclusion Determination issued on May 24, 2022, and other documents in the TxDOT project file. The Categorical Exclusion Determination and other documents in the TxDOT project file are available by contacting the TxDOT El Paso District Office at 13301 Gateway Blvd. West, EL Paso, Texas 79928; telephone: Lauren Macias-Cervantes at (915) 790-4341 or Jennifer Wright at (915) 790-4340.

8. IH 10 from FM 2434 to United States Highway US 90 (Alleyton Road South) in Colorado County, Texas. TxDOT proposes to reconstruct and widen IH 10 from FM 2434 to US 90 (Alleyton Road South) in Columbus. Additionally, the IH 10 bridge crossing the Colorado River would be replaced and realigned. The proposed project is approximately 5.6 miles in length, passing through the City of Columbus and the unincorporated communities of Glidden and Alleyton. The purpose of the project is to meet local and regional future travel demands by increasing capacity, improving the safety of the roadway by correcting design deficiencies and upgrading the facility to meet current design standards, and improving the hurricane evacuation route on IH 10. The actions by TxDOT and Federal agencies and the laws under which such actions were taken are described in the Final Environmental Assessment (EA), the Finding of No Significant Impact (FONSI) issued on March 15, 2022, and other documents in the TxDOT project file. The EA, FONSI and other documents in the TxDOT project file are available by contacting the TxDOT Yoakum District Office at 403 Huck St., Yoakum, Texas 77995; telephone: (361) 293-4436.

9. Loop 1604 from FM 78 to IH 10E in Bexar County, Texas. The project will convert Loop 1604 from a four-lane divided highway to a four-lane expressway between FM 78 and IH 10E. The project also includes frontage roads, entrance/exit ramps and pedestrian facilities. The project is approximately six miles in length. The actions by TxDOT and Federal agencies and the laws under which such actions were taken are described in the Final Environmental Assessment (EA), the Finding of No Significant Impact (FONSI) issued on May 24, 2022, and other documents in the TxDOT project file. The EA, FONSI and other documents in the TxDOT project file are available by contacting the TxDOT San Antonio District Office at 4615 NW Loop 410, San Antonio, TX 78229; telephone: (210) 615-5839.

Authority: 23 U.S.C. 139(l)(1)

Michael T. Leary,
Director, Planning and Program Development, Federal Highway Administration.

[FR Doc. 2022-18367 Filed 8-24-22; 8:45 am]

BILLING CODE 4910-22-P